ENVIRONMENTAL PROTECTION AGENCY

40 CFR Part 435

[EPA-HQ-OW-2016-0598; FRL-9953-25-OW]

[RIN 2040-AF68]

Effluent Limitations Guidelines and Standards for the Oil and Gas Extraction Point Source Category—Implementation Date Extension

AGENCY: Environmental Protection Agency (EPA).

ACTION: Proposed rule.

SUMMARY: The Environmental Protection Agency (EPA) proposes to extend the implementation deadline for certain facilities subject to the final rule establishing pretreatment standards under the Clean Water Act (CWA) for discharges of pollutants into publicly owned treatment works (POTWs) from onshore unconventional oil and gas (UOG) extraction facilities. EPA proposes these revisions in response to new information received after promulgation of the rule suggesting that there are likely facilities subject to the final rule not presently meeting the zero discharge requirements in the final rule.

DATES: Written comments must be received by October 31, 2016.

ADDRESSES: Submit your comments, identified by Docket ID No. [EPA-HQ-OW-2016-0598], at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: For more information, see EPA's Web site: https://www.epa.gov/eg/unconventional-oil-and-gas-extraction-effluent-guidelines. For technical information, contact Karen Milam, Engineering and Analysis Division (4303T), Office of Water, Environmental Protection Agency, 1200 Pennsylvania Ave. NW., Washington, DC 20460-0001; telephone: 202-566-1915; email: milam.karen@epa.gov.

SUPPLEMENTARY INFORMATION:

I. Does this action apply to me?

Entities potentially regulated by this final action include:

Category | Example of regulated entity | North American Industry Classification System (NAICS) code
Industry | Crude Petroleum and Natural Gas Extraction | 211111
Industry | Natural Gas Liquid Extraction | 211112

II. Why is EPA issuing this proposed rule?

This document proposes to establish a compliance date for pretreatment standards for existing onshore unconventional oil and gas extraction facilities within the Oil and Gas Extraction Point Source Category that differs from the date specified in the preamble to that final rule (81 FR 41845, June 28, 2016). We have published a direct final rule to extend the compliance date to August 29th, 2019 for existing sources that were lawfully discharging UOG wastewater to POTWs on or between the date of the Federal Register Notice of the proposed rule (April 7, 2015) and the date of the Federal Register Notice of the final rule (June 28, 2016) in the “Rules and Regulations” section of this Federal Register because we view this as a noncontroversial action and anticipate no adverse comment. For purposes of this proposed rule, compliance date and implementation date are used interchangeably. We have explained our reasons for this action in the preamble to the direct final rule.

If no adverse comments are received, the direct final rule will go into effect. If we receive adverse comment, we will withdraw the direct final rule and it will not take effect. We would address all public comments in any subsequent final rule based on this proposed rule. EPA will not consider any comment submitted on the proposed rule published today on any topic other than the appropriateness of an extension of the compliance date; any other comments will be considered to be outside the scope of this rulemaking.

We do not intend to institute a second comment period on this action. Any parties interested in commenting must do so at this time. For further information, please see the information provided in the ADDRESSES section of this document.

III. Where is the location of regulatory text for this proposal?

The regulatory text for this proposal is identical to that for the direct final rule published in the Rules and Regulations section of the Federal Register. For further supplemental information, the detailed rationale for the proposal, and the regulatory revisions, see the information provided in the direct final rule published in the Rules and Regulations section of this Federal Register.

IV. Statutory and Executive Order Reviews

For a complete discussion of all of the administrative requirements applicable to this action, see the direct final rule in the Rules and Regulations section of this Federal Register.

List of Subjects in 40 CFR Part 435

Environmental protection, Pretreatment, Waste treatment and disposal, Water pollution control, Unconventional oil and gas extraction.

Dated: September 22, 2016.
Gina McCarthy,
Administrator.

[FR Doc. 2016-23458 Filed 9-29-16; 8:45 am]

BILLING CODE 6560-50-P